DEPARTMENT OF TRANSPORTATION

National Highway Traffic Safety Administration

[Docket No. NHTSA-2010-0006; Notice 1]

Notice of Receipt of Petition for Decision that Nonconforming 2000 East Lancs Lolyne Double Decker Bus Mounted on Volvo B7L Chassis is Eligible for Importation

AGENCY: National Highway Traffic Safety Administration, DOT.

ACTION: Notice of receipt of petition.

SUMMARY: This document announces receipt by the National Highway Traffic Safety Administration (NHTSA) of a petition for a decision that 2000 East Lancs Lolyne double decker buses mounted on Volvo B7L chasses that were not originally manufactured to comply with all applicable Federal Motor Vehicle Safety Standards (FMVSS) are eligible for importation into the United States because they have safety features that comply with, or are capable of being altered to comply with, all such standards.

DATES: The closing date for comments on the petition is July 28, 2010.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001

• Hand Delivery or Courier: West Building Ground Floor, Room W12-140, 1200 New Jersey Avenue, SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notices in the Federal Register for each petition that it receives, and affords interested persons an opportunity to comment on the petitions. At the close of the comment period, NHTSA decides, on the basis of the petitions and any comments that it has received, whether the vehicle(s) is eligible for importation. The agency then publishes their decision in the Federal Register.

J.K. Technologies, LLC, of Baltimore, Maryland (J.K.) (Registered Importer 90-006) has petitioned NHTSA to decide whether nonconforming 2000 East Lancs Lolyne double decker buses mounted on Volvo B7L chasses are eligible for importation into the United States.

J.K. submitted information with its petition intended to demonstrate that non-U.S. certified 2000 East Lancs Lolyne double decker buses mounted on Volvo B7L chasses, as originally manufactured, conform to many FMVSS, or are capable of being altered to conform to those standards.

Specifically, the petitioner claims that non-U.S. certified 2000 East Lancs Lolyne double decker buses mounted on Volvo B7L chasses, as originally manufactured, comply with Standard Nos. 102 Transmission Shift Lever Sequence, Starter Interlock, and Transmission Braking Effect, 103 Windshield Defrosting and Defogging Systems, 104 Windshield Wiping and Washing Systems, 106 Brake Hoses, 111 Rearview Mirrors, 119 New Pneumatic Tires for Vehicles other than Passenger Cars, 121 Air Brake Systems, 124 Accelerator Control Systems, 205 Glazing Materials, 207 Seating Systems, 209 Seat Belt Assemblies, 210 Seat Belt Assembly Anchorages, 217 Bus Emergency Exits and Window Retention and Release, and 302 Flammability of Interior Materials.

With regard to Standard No. 121 Air Brake Systems, the petition asserts: “All elements of the braking system comply with the applicable FMVSS 121 requirements.” Because it is aware that Volvo Buses has not, to date, manufactured any buses for sale in the United States or certified any buses as complying with all applicable FMVSS, NHTSA is concerned that the brake system on the vehicles that are the subject of the petition may not, in fact, have been originally manufactured to comply with all requirements of Standard No. 121. As a consequence, the agency is soliciting specific comments with respect to this issue.

Petitioner also contends that the vehicle is capable of being altered to meet the following standards, in the manners indicated:

Standard No. 101 Controls and Displays: modification of: (a) The speedometer face so that speed is displayed in miles per hour; (b) the low pressure warning system dash placards for the primary and secondary braking systems; and (c) the safety belt telltale lamp label to ensure that the controls and displays meet the requirements of this standard.

Standard No. 108 Lamps, Reflective Devices and Associated Equipment: installation of the following U.S.-conforming model components: (a) Front sidemarker lamps; (b) headlamps; (c) tail lamps with integral rear side marker lamps; (d) clearance lamps; and (e) side mounted reflectors in place of existing nonconforming reflectors.

Standard No. 120 New Pneumatic Tires for Vehicles Other than Passenger Cars: installation of a tire information placard.

Standard No. 208 Occupant Crash Protection: Installation of an audible seat belt warning system to meet the requirements of this standard.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: June 21, 2010.
Claude H. Harris,
Director, Office of Vehicle Safety Compliance.

[FR Doc. 2010-15552 Filed 6-25-10; 8:45 am]

BILLING CODE 4910-59-P